DEPARTMENT OF HOMELAND SECURITY

Transportation Security Administration

Opening of Registration for Certified Cargo Screening Facilities-Canine

AGENCY: Transportation Security Administration, DHS.

ACTION: Notice.

SUMMARY: The Transportation Security Administration (TSA) is announcing the opportunity for explosives detection canine teams and canine team providers to become a registered Certified Cargo Screening Facility-Canine (CCSF-K9) under TSA's Certified Cargo Screening Program (CCSP). This notice provides information necessary for qualified, interested persons to initiate the registration process.

DATES: Applicable November 27, 2018.

ADDRESSES: Interested persons can contact 3PK9aircargosecurity@tsa.dhs.gov to obtain a copy of the information discussed in this notice.

FOR FURTHER INFORMATION CONTACT: Michael P. Daniel, Section Chief, Cargo Risk Reduction, Compliance Division, Security Operations, TSA. Mr. Daniel can be reached at (571) 227-2228, or by email to 3PK9aircargosecurity@tsa.dhs.gov.

SUPPLEMENTARY INFORMATION:

I. Background

A. Statutory Authority

The Implementing Recommendations of the 9/11 Commission Act of 2007 (Pub. L. 110-53, 121 Stat. 266, Aug. 3, 2007) (9/11 Act) mandated the Department of Homeland Security (DHS) to require 100 percent screening of air cargo transported on passenger aircraft at a level commensurate with requirements for screening of checked baggage.¹ In defining “screening,” the statute specifically includes the use of “explosives detection canine teams certified by [TSA].” ² Section 1941 of the TSA Modernization Act of 2018 directs TSA to develop and issue standards for the use of third-party canine teams for the primary screening of air cargo.³

¹ See 9/11 Act sec. 1602, codified at 49 U.S.C. 4490l(g).

² Id. at sec. 4490l(g)(5). See also 49 CFR 1544.205(g)(2).

³ See Division K of the FAA Reauthorization Act of 2018, Public Law 115-254 (132 Stat. 3186, Oct. 5, 2018) (TSA Modernization Act).

B. Third-Party Canine-Cargo Program

TSA's Third-Party Canine-Cargo (3PK9-C) program, which fulfills the requirements in sec. 1941 of the TSA Modernization Act, provides an effective and efficient method for screening cargo consistent with TSA's authority under 49 U.S.C. 44901. There are three primary non-governmental participants in TSA's 3PK9-C Program: (1) 3PK9-C Certifiers, authorized through an Order issued by TSA to certify canine teams as meeting TSA's certification standards; ⁴ (2) regulated entities with an approved amendment to their security program required by 49 CFR parts 1544, 1546, or 1549 permitting use of certified canine teams to screen air cargo; and (3) canine team providers (could also include an independent canine team) authorized to screen cargo consistent with security program requirements issued under the CCSP, discussed in more detail below. Participation in any part of the 3PK9-C program is voluntary, but any certifier, regulated entity, or provider that chooses to participate in the program must comply with all requirements in the applicable documents.

⁴ See Notice, Opening of Application Period for Third-Party Canine-Cargo Certifiers, 83 FR 23287 (May 18, 2018); Notice, Announcement of Approved Third-Party Canine-Cargo Certifiers, and Start of Certification Events, 83 FR 55558 (Nov. 6, 2018).

C. Certified Cargo Screening Facility-Canine (CCSF-K9)

TSA issued the CCSP regulation in 2009 to provide an approved method for regulated entities to screen 100 percent of all cargo to be transported on passenger aircraft. The program established a new regulatory framework that allowed a third-party to screen cargo to TSA standards, relieving the air carrier of the space, time, and cost pressures associated with screening cargo using technical means on airport grounds.⁵ The CCSF-K9 is a natural evolution of the CCSP program, as it provides another approved method for third parties to screen cargo to TSA standards at minimal cost, and at the most efficient time and place. Any cargo screening program that is compliant with the CCSP regulation meets all TSA screening standards required to transport cargo aboard passenger aircraft or any other aircraft, including all-cargo aircraft.

⁵ See Air Cargo Screening, interim final rule (IFR), 74 FR 47704 (Sept. 16, 2009), codified at 49 CFR part 1549.

II. How To Become a Registered CCSF-K9

To operate as a CCSF-K9, a canine provider must register with the CCSP and be approved as a holder of the Certified Cargo Security Program-Canine, issued under 49 CFR part 1549. For the purposes of this notice, the term “CCSF-K9” refers to the registered-holder of this security program. The security program includes both the requirements to become a CCSF-K9 and the operational requirements for screening air cargo. Under the framework for the 3PK9-C Program, a CCSF-K9 must seek certification of its canine teams by a 3PK9-C Certifier. Any contracts under which the CCSF-K9 will provide Certified 3PK9-C Teams, must be identified in the CCSF-K9's Operational Implementation Plan (OIP), including locations where screening will be conducted. The OIP must be submitted as part of the canine provider's application and updated throughout the CCSF-K9s participation in the 3PK9-C program. The regulated entity must also have a TSA-approved or accepted amendment to its required security program that allows use of a CCSF-K9 to screen air cargo, defines the process for transferring cargo to and from the CCSF-K9, establishes requirements for the regulated entity to conduct alarm resolution using a screening method approved by TSA, and requires recordkeeping of certain program documents.

This notice is being published to ensure all interested persons are aware of the opportunity to become CCSF-K9s. To initiate the registration process, canine team providers must submit an initial email indicating their interest to be a CCSF-K9 to the email address identified above under ADDRESSES. TSA will respond with additional information regarding the application requirements, including the required procedures to obtain access to Sensitive Security Information (SSI) pursuant to 49 CFR part 1520. Once access to SSI is permitted, the provider will receive a copy of the standard security program for CCSF-K9s, which includes the requirements for participation in the 3PK9-C Program. As stated in 49 CFR part 1549, all canine team providers must provide the information required by TSA and undergo an onsite corporate assessment performed by TSA.⁶ TSA will use this information to evaluate the provider's qualifications and readiness to participate in the 3PK9-C Program.

⁶ See 49 CFR 1549.7.

All interested canine team providers must submit the following information before receiving any additional documentation from TSA regarding and CCSF-K9 and application:

• Corporate profile information to TSA, including information on the company's corporate affiliation, corporate physical location, canine field locations, and information on canine team certifications.

• SSI acknowledgement, training, and non-disclosure agreement.

• Letter of intent and affidavit signed by relevant principal(s).

• Legal documentation describing the corporation, ID verification, and work authorization for specific individuals.

Once approved by TSA, the CCSF-K9 must comply with statutory and regulatory requirements for the screening of air cargo intended for transport on aircraft operated pursuant to a TSA-approved or accepted security program under 49 CFR parts 1544 or 1546, or a facilities-based CCSF operating pursuant to a TSA-approved security program under 49 CFR part 1549. The CCSF-K9 must also ensure that all employees and authorized representatives who have duties and responsibilities for any requirement in the security program successfully complete TSA's requirements for a Security Threat Assessments (STA), which may include a fingerprint-based criminal history records check, and are trained to ensure the effective performance of those responsibilities, and are knowledgeable of their security responsibilities.

Unless otherwise approved by TSA, the provider must apply for a security program and certification to operate as a CCSF-K9 no less than 90 days before commencing operations.⁷ Completed applications should be submitted to TSA at the addressed identified above under ADDRESSES. The CCSF-K9 may commence operations under the security program after its receives written approval from TSA that all TSA's requirements are met, including but not limited to an assessment by TSA, successful completion of required training, approval of the OIP, and satisfactory adjudication of an STA as required by the security program. Initial approval of a CCSF-K9's registration is effective for 18 months from the date of issuance.

⁷ Id. 1549.7(a)(1).

Dated: November 21, 2018.
Darby LaJoye,
Executive Assistant Administrator, Security Operations.

[FR Doc. 2018-25894 Filed 11-26-18; 8:45 am]

BILLING CODE 9110-05-P